DEPARTMENT OF LABOR

Mine Safety and Health Administration

Proposed Information Collection Request Submitted for Public Comment and Recommendations; Gamma Radiation Exposure Records; Correction

ACTION: Correction notice.

SUMMARY: On September 23, 2009 (74 FR 48601), the Mine Safety and Inspection Service published a notice document soliciting comments concerning the extension of information collection related to Gamma Radiation Exposure Records. This document corrects a typographical error that appeared in that document.

FOR FURTHER INFORMATION CONTACT: John Rowlett, Rowlett.John@dol.gov, (202) 693-9827.

Correction

On page 48602, in the first column, in the “Background” section, in the second paragraph, the word “lunch”, should have read “lung”.

Dated at Arlington, Virginia, this 25th day of September, 2009.
John Rowlett,
Director, Management Services Division.

[FR Doc. E9-23548 Filed 9-29-09; 8:45 am]

BILLING CODE 4510-43-P